DEPARTMENT OF THE INTERIOR

National Park Service

[NPS-WASO-NAGPRA-14037; PPWOCRADN0-PCU00RP14.R50000]

Notice of Inventory Completion: University of Michigan, Ann Arbor, MI

AGENCY: National Park Service, Interior.

ACTION: Notice.

SUMMARY: The University of Michigan has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the University of Michigan. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the University of Michigan at the address in this notice by December 2, 2013.

ADDRESSES: Dr. Ben Secunda, NAGPRA Project Manager, University of Michigan, Office of the Vice President for Research, 4080 Fleming Building, 503 Thompson St., Ann Arbor, MI 48109-1340, telephone (734) 647-9085, email bsecunda@umich.edu.

SUPPLEMENTARY INFORMATION: Notice is here given in accordance with the Native American Graves Protection and Repatriation Act (NAGPRA), 25 U.S.C. 3003, of the completion of an inventory of human remains and associated funerary objects under the control of the University of Michigan, Ann Arbor, MI. The human remains and associated funerary objects were removed from Barry, Branch, Calhoun, Ionia, and Kent Counties, MI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by the University of Michigan Museum of Anthropology professional staff in consultation with representatives of the Bay Mills Indian Community, Michigan; Chippewa-Cree Indians of the Rocky Boy's Reservation, Montana; Grand Traverse Band of Ottawa and Chippewa Indians, Michigan; Hannahville Indian Community, Michigan; Keweenaw Bay Indian Community, Michigan; Lac Vieux Desert Band of Lake Superior Chippewa Indians of Michigan; Little River Band of Ottawa Indians, Michigan; Little Traverse Bay Bands of Odawa Indians, Michigan; Match-e-be-nash-she-wish Band of Pottawatomi Indians of Michigan; Nottawaseppi Huron Band of the Potawatomi, Michigan (previously listed as the Huron Potawatomi, Inc.); Pokagon Band of Potawatomi Indians, Michigan and Indiana; Saginaw Chippewa Indian Tribe of Michigan; and the Sault Ste. Marie Tribe of Chippewa Indians, Michigan.

Additional requests for consultation were sent to the Bad River Band of the Lake Superior Tribe of Chippewa Indians of the Bad River Reservation, Wisconsin; Bois Forte Band (Nett Lake) of the Minnesota Chippewa Tribe, Minnesota; Citizen Potawatomi Nation, Oklahoma; Fond du Lac Band of the Minnesota Chippewa Tribe, Minnesota; Forest County Potawatomi Community, Wisconsin; Grand Portage Band of the Minnesota Chippewa Tribe, Minnesota; Lac Courte Oreilles Band of Lake Superior Chippewa Indians of Wisconsin; Lac du Flambeau Band of Lake Superior Chippewa Indians of the Lac du Flambeau Reservation of Wisconsin; Leech Lake Band of the Minnesota Chippewa Tribe, Minnesota; Mille Lacs Band of the Minnesota Chippewa Tribe, Minnesota; Ottawa Tribe of Oklahoma; Prairie Band Potawatomi Nation (previously listed as the Prairie Band of Potawatomi Nation, Kansas); Quechan Tribe of the Fort Yuma Indian Reservation, California & Arizona; Red Cliff Band of Lake Superior Chippewa Indians of Wisconsin; Red Lake Band of Chippewa Indians, Minnesota; Sokaogon Chippewa Community, Wisconsin; St. Croix Chippewa Indians of Wisconsin; Turtle Mountain Band of Chippewa Indians of North Dakota; and the White Earth Band of the Minnesota Chippewa Tribe, Minnesota.

Hereafter, all tribes listed in this section are referred to as “The Tribes.”

History and Description of the Remains

In 1958, human remains representing, at minimum, 3 individuals were removed from the Middleville site (20BA26) in Barry County, MI. A landowner unearthed human remains while digging a gas line trench on his property. He contacted D.B. Cochran of the University of Michigan Museum of Anthropology (UMMA) who collected the remains of one cremated adult, one adolescent, and one child from the fill soil of the trench. Cochran also surveyed the general area, including both sides of the North Branch Thornapple River, for additional burials or artifacts, but found none. No date or time period for the human remains could be established. No known individuals were identified. No associated funerary objects are present.

In the 1930s, human remains representing, at minimum, 1 individual were removed from the Yankee Springs site in Barry County, MI. Workers unearthed the remains of one adult male during gravel pit operations. An employee of the State of Michigan working at the Yankee Springs Recreational Area collected the remains. The skull was eventually donated to the UMMA in the 1960s. No date or time period for the human remains could be established. No known individuals were identified. No associated funerary objects are present.

In either 1905 or 1906, human remains representing, at minimum, 2 individuals were removed from the Burch site (20BR1) in Branch County, MI. A landowner found and collected an unknown number of human remains and associated funerary objects while digging on his farm. On an unknown date, he transferred one cranium and three long bones from a young adult female to a Professor of Archaeology at Ohio State University and member of the Ohio Historical Society who subsequently donated these remains to the UMMA in 1955. Additionally, the landowner's nephew transferred one cranium from an adult male, along with an unknown number of the associated funerary objects, to a local collector who subsequently donated the cranium and 148 associated funerary objects to the UMMA in 1970. The human remains likely date to the Late Archaic-Early Woodland Period (2550-300 B.C.) and are likely associated with the Glacial Kame cultural complex as inferred from the presence of sandal-sole gorgets made from Busycon shell. No known individuals were identified. The 148 associated funerary objects present are 17 copper beads, 114 shell disk beads, 1 copper awl, 3 round shell gorgets perforated at the center, 6 large sandal-sole gorgets with perforations, 2 curved triangular shell gorgets with perforations, 4 oblong shell gorgets, and 1 copper gorget.

In 1924, human remains representing, at minimum, 1 individual were removed from the Enos Short's Farm site (20CA102) in Calhoun County, MI. A farmer collected the remains of one young adult female while removing gravel on farmland near Battle Creek, MI. The individual was buried with her head toward the north and facing to the east. The farmer donated the human remains to the UMMA in September of 1924. No date or time period for the human remains could be established. No known individuals were identified. No associated funerary objects are present.

On an unknown date prior to 1975, human remains representing, at a minimum, 1 adult individual were removed from the Stony Creek site (20IA44) in Ionia County, MI. A local resident collected the human remains, along with an unspecified number of greywacke and quartzite artifacts of unknown type, from a location near Stony Creek. The artifacts were not donated to the UMMA. The artifacts are typical of the Late Archaic Satchell Complex and, along with the presence of copper salt residues on the human remains, help date the human remains to the Archaic Period. No known individuals were identified. No associated funerary objects are present.

On an unknown date, human remains representing, at minimum, 1 individual were removed from the Kent County site in Kent County, MI. Amateur archeologists collected one mandible from a location along the Grand River near the Norton Mounds. It is unclear when the human remains were actually donated to the UMMA, but museum records indicate that the mandible was placed in the teaching collection in 1967. Green staining was noted on the mandible. The human remains date to the Pre-Contact Period based on the presence of numerous documented sites from this period in the same area. No known individuals were identified. No associated funerary objects are present.

In July 1930, human remains representing, at minimum, 9 individuals were removed from the West Side of Flat River site (20KT43) in Kent County, MI. A local resident collected the remains of eight adults and one child, and donated them to the UMMA on December 29, 1930. The site has multiple components and may have burials that date to both the Pre-Contact and Post-Contact Periods. Historical records indicate that the area where the burials were discovered was known to contain a mound from the Pre-Contact Period as well as a Native American burial ground from the Post-Contact Period likely associated with the Odawa leader Keweyooshcum, who had a village located in the vicinity. No date or time period for the human remains could be established. No individuals were identified. No associated funerary objects are present.

Determinations Made by the University of Michigan Museum of Anthropology

Officials of the University of Michigan Museum of Anthropology have determined that:

• Pursuant to 25 U.S.C. 3001(9), the human remains described in this notice are Native American based on cranial morphology, dental traits, accession documentation, and archeological context.

• Pursuant to 25 U.S.C. 3001(9), the human remains described in this notice represent the physical remains of 18 individuals of Native American ancestry.

• Pursuant to 25 U.S.C. 3001(3)(A), the 148 objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• According to final judgments of the Indian Claims Commission or the Court of Federal Claims, the land from which the Native American human remains and associated funerary objects were removed is the aboriginal land of The Tribes.

• Treaties, Acts of Congress, or Executive Orders, indicate that the land from which the Native American human remains and associated funerary objects were removed is the aboriginal land of The Tribes.

• Pursuant to 43 CFR 10.11(c)(1), the disposition of the human remains and associated funerary objects may be to The Tribes.

Additional Requestors and Disposition

Representatives of any Indian tribe or Native Hawaiian organization not identified in this notice that wish to request transfer of control of these human remains and associated funerary objects should submit a written request with information in support of the request to Dr. Ben Secunda, NAGPRA Project Manager, University of Michigan, Office of the Vice President for Research, 4080 Fleming Building, 503 Thompson St., Ann Arbor, MI 48109-1340, telephone (734) 647-9085, email bsecunda@umich.edu, by December 2, 2013. After that date, if no additional requestors have come forward, transfer of control of the human remains and associated funerary objects to The Tribes may proceed.

The University of Michigan is responsible for notifying The Tribes that this notice has been published.

Dated: September 16, 2013.
Sherry Hutt,
Manager, National NAGPRA Program.

[FR Doc. 2013-25997 Filed 10-30-13; 8:45 am]

BILLING CODE 4312-50-P